DEPARTMENT OF LABOR

Office of the Secretary

Submission for OMB Review; Comment Request

January 28, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA); Labor.

Title: The 13 Carcinogens Standard.

OMB Number: 1218-0085.

Frequency: On occasion.

Affected Public: Business or other for-profit; Federal Government; State, Local or Tribal Government.

Number of Respondents: 97.

Estimated Time Per respondent: Time per response ranges from approximately 5 minutes (for employers to maintain records) to 5 hours (for employers to develop emergency/incident reports).

Total Burden Hours: 2,798.

Total Annualized capital/startup costs: $0.

Total annual costs (operating/maintaining systems or purchasing services): $86,226.

Description: The 13 Carcinogens Standard requires employers to develop signs and labels to warn employees about the hazards associated with the 13 carcinogens. Also, employers must notify OSHA Area Directors of new regulated areas, changes to regulated areas, and incidents that occur in regulated areas. Employers must establish and implement a medical surveillance program for employees assigned to enter regulated areas. This program must inform employees of their medical examination results and provide them with access to their medical records. In addition, employers must retain employee medical records for specified time periods and provide these records to the National Institute for Occupational Safety and Health under certain circumstances.

Ira L. Mills,
Departmental Clearance Officer.

[FR Doc. 00-2644 Filed 2-4-00; 8:45 am]

BILLING CODE 4510-26-M